OFFICE OF THE UNITED STATES TRADE REPRESENTATIVE

Notice of Product Exclusion Extensions: China's Acts, Policies, and Practices Related to Technology Transfer, Intellectual Property, and Innovation

AGENCY: Office of the United States Trade Representative (USTR).

ACTION: Notice.

SUMMARY: In prior notices, the U.S. Trade Representative modified the actions in the Section 301 investigation of China's acts, policies, and practices related to technology transfer, intellectual property, and innovation by excluding from additional duties certain products of China. This notice announces the U.S. Trade Representative's determination to further extend the current exclusions.

DATES: The modifications announced in the annexes to this notice further extend the exclusions through November 29, 2025.

FOR FURTHER INFORMATION CONTACT: For general questions about this notice, contact Senior Associate General Counsel Philip Butler at (202) 395-5725. For specific questions on customs classification or implementation of the product exclusions, contact traderemedy@cbp.dhs.gov.

SUPPLEMENTARY INFORMATION:

A. Background

On December 29, 2023, USTR invited the public to submit comments on whether to extend 352 previously reinstated exclusions and 77 COVID-related exclusions. See 88 FR 90225 (December 29, 2023) (the December 29, 2023 notice). On May 30, 2024, USTR announced the extension of 164 of these exclusions through May 31, 2025. See 89 FR 46948 (May 30, 2024) (the May 30, 2024 notice).

In connection with the four-year review, on September 18, 2024, USTR announced fourteen exclusions covering certain solar manufacturing equipment. See 89 FR 76581 (September 18, 2024) (the September 18, 2024 notice). The fourteen exclusions were effective from January 1, 2024 through May 31, 2025. For additional background on the four-year review, see previous notices issued in the investigation, including the September 18, 2024 notice.

On May 31, 2025, USTR announced the further extension of the 164 exclusions extended in May 2024 and the fourteen exclusions granted in September 2024. See 90 FR 23987 (June 5, 2025) (the June 5, 2025 notice). These 178 exclusions were further extended through August 31, 2025.

B. Determination To Further Extend Exclusions

Based on continued consideration of the comments received in response to the December 29, 2023 notice and the comments received in the four-year review, and in accordance with section 307(a)(1)(C) of the Trade Act of 1974, as amended, the U.S. Trade Representative has determined that an additional 90-day further extension (through November 29, 2025) of the 178 exclusions extended in the June 5, 2025 notice is appropriate. The U.S. Trade Representative's decision to further extend these exclusions takes into account public comments previously submitted. The determination to further extend these exclusions also takes into account the advice of advisory committees and the advice of the interagency Section 301 Committee.

As provided in the May 30, 2024 notice and the September 18, 2024 notice, the exclusion extensions in the annexes to this notice are available for any product that meets the description in the product exclusion. Further, the scope of each exclusion is governed by the scope of the ten-digit Harmonized Tariff Schedule of the United States (HTSUS) statistical reporting numbers and product descriptions set forth in U.S. notes 20(vvv)(i), 20(vvv)(ii), 20(vvv)(iii), 20(vvv)(iv), and 20(www) to subchapter III of chapter 99 of the HTSUS.

U.S. Customs and Border Protection will issue instructions on entry guidance and implementation.

The U.S. Trade Representative may continue to consider further extensions or additional modifications as appropriate.

Annex A

The U.S. Trade Representative has determined to extend all exclusions under heading 9903.88.69 and U.S. notes 20(vvv)(i), 20(vvv)(ii), 20(vvv)(iii), and 20(vvv)(iv) to subchapter III of chapter 99 of the HTSUS. See 89 FR 46948 (May 30, 2024) and 90 FR 23987 (June 5, 2025). The extension is effective with respect to goods entered for consumption, or withdrawn from warehouse for consumption, on or after 12:01 a.m. eastern standard time on September 1, 2025, and before 11:59 p.m. eastern daylight time on November 29, 2025. Effective on September 1, 2025, the article description of heading 9903.88.69 of the HTSUS is modified by deleting “August 31, 2025,” and by inserting “November 29, 2025,” in lieu thereof.

Annex B

The U.S. Trade Representative has determined to extend all exclusions under heading 9903.88.70 and U.S. note 20(www) to subchapter III of chapter 99 of the HTSUS. See 89 FR 76581 (September 18, 2024) and 90 FR 23987 (June 5, 2025). The extension is effective with respect to goods entered for consumption, or withdrawn from warehouse for consumption, on or after 12:01 a.m. eastern standard time on September 1, 2025, and before 11:59 p.m. eastern daylight time on November 29, 2025. Effective on September 1, 2025, the article description of heading 9903.88.70 of the HTSUS is modified by deleting “before September 1, 2025,” and by inserting “through November 29, 2025,” in lieu thereof.

Philip Butler,
Senior Associate General Counsel, Chair, Section 301 Committee, Office of the United States Trade Representative.

[FR Doc. 2025-16733 Filed 8-29-25; 8:45 am]

BILLING CODE 3390-F4-P